DEPARTMENT OF LABOR

Employment and Training Administration

[TA-W-54,609]

Akzo Nobel Coatings, Inc., Wood Coatings Division, High Point, NC; Notice of Termination of Investigation

Pursuant to section 221 of the Trade Act of 1974, as amended, an investigation was initiated on March 29, 2004 in response to a worker petition filed by a company official on behalf of workers at Akzo Nobel Coatings, Inc., Wood Coatings Division, High Point, North Carolina.

The petitioner has requested that the petition be withdrawn. Consequently, the investigation has been terminated.

Signed at Washington, DC this 20th day of May 2004.
Linda G. Poole,
Certifying Officer, Division of Trade Adjustment Assistance.

[FR Doc. 04-12882 Filed 6-7-04; 8:45 am]

BILLING CODE 4510-30-P